FEDERAL COMMUNICATIONS COMMISSION

[OMB 3060-1222; FR ID 254149]

Information Collection Being Reviewed by the Federal Communications Commission

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

DATES: Written PRA comments should be submitted on or before December 24, 2024. If you anticipate that you will be submitting comments, but find it difficult to do so within the period of time allowed by this notice, you should advise the contact listed below as soon as possible.

ADDRESSES: Direct all PRA comments to Nicole Ongele, FCC, via email PRA@fcc.gov and to nicole.ongele@fcc.gov.

FOR FURTHER INFORMATION CONTACT: For additional information about the information collection, contact Nicole Ongele, (202) 418-2991.

SUPPLEMENTARY INFORMATION: The FCC may not conduct or sponsor a collection of information unless it displays a currently valid control number. No person shall be subject to any penalty for failing to comply with a collection of information subject to the PRA that does not display a valid Office of Management and Budget (OMB) control number.

OMB Control Number: 3060-1222.

Title: Incarcerated People's Communications Services (IPCS) Provider Annual Reporting, Certification, and Other Requirements, WC Docket Nos. 23-62, 12-375.

Form Number(s): FCC Form 2301(a) and FCC Form 2301(b).

Type of Review: Revision of a currently approved information collection.

Respondents: Business or other for-profit.

Number of Respondents and Responses: 35 respondents; 47 responses.

Estimated Time per Response: 5-240 hours.

Frequency of Response: Annual reporting requirements, third party disclosure requirements, and on-occasion reporting requirements.

Obligation to Respond: Mandatory. Statutory authority for this collection of information is contained in sections 1, 2, 4(i)-(j), 5(c), 201(b), 218, 220, 225, 255, 276, 403, and 716 of the Communications Act of 1934, as amended, 47 U.S.C. 151, 152, 154(i)-(j), 155(c), 201(b), 218, 220, 225, 255, 276, 403, and 617, and the Martha Wright-Reed Just and Reasonable Communications Act of 2022, Public Law 117-338, 136 Stat. 6156.

Total Annual Burden: 17,555 hours.

Total Annual Cost: No cost.

Needs and Uses: On January 5, 2023, the President signed into law the Martha Wright-Reed Just and Reasonable Communications Act of 2022 (Martha Wright-Reed Act or Act), which expands the Commission's statutory authority over communications between incarcerated people and the non-incarcerated to include “any audio or video communications service used by inmates . . . regardless of technology used.” The new Act also amends section 2(b) of the Communications Act of 1934, as amended (Communications Act), to make clear that the Commission's authority extends to intrastate as well as interstate and international communications services used by incarcerated people.

The Act directs the Commission to “promulgate any regulations necessary to implement” it, including the mandate that the Commission establish a “compensation plan” ensuring that all rates and charges for IPCS “are just and reasonable,” not earlier than 18 months and not later than 24 months after the Act's January 5, 2023, enactment date. The Act also requires the Commission to consider, as part of its implementation, the costs of “necessary” safety and security measures, as well as “differences in costs” based on facility size, or “other characteristics.” It also allows the Commission to “use industry-wide average costs of telephone service and advanced communications services and the average costs of service of a communications service provider” in determining just and reasonable rates.

Pursuant to the directive that the Commission implement the new Act and ensure just and reasonable rates for IPCS, the Commission released the 2023 IPCS Notice of Proposed Rulemaking, FCC 23-19, 88 FR 20804 (April 7, 2023), seeking comment on how to interpret the Act's language to ensure that the Commission implements the statute in a manner that fulfills Congress's intent On July 22, 2024, the Commission released the 2024 IPCS Order, FCC 24-75, 89 FR 77244 (September 20, 2024), which implements the expanded authority granted to the Commission by the Martha Wright-Reed Act to establish a compensation plan that ensures both just and reasonable rates and charges for incarcerated people's audio and video communications services and fair compensation for incarcerated people's communications service providers. The Order fundamentally reforms the regulation of IPCS in all correctional facilities, regardless of the technology used to deliver these services, and significantly lowers the IPCS rates that incarcerated people and their loved ones will pay.

Among other actions, the Commission revised its rules to incorporate terms used in the Martha Wright-Reed Act and to implement its actions in the Order. These revisions include the addition of new rules addressing disability access, alternate pricing plans, and inactive accounts; and changes to the rules addressing consumer disclosure, annual reporting and certification rules, waiver reporting, rate cap, site commission, and ancillary service charges. In this 60-day Notice, we are beginning the process seeking PRA approval of the paperwork burdens arising from the new rules addressing disability access, alternate pricing plans and inactive accounts, and the revisions to the consumer disclosure rules and waiver reporting requirements. We will address any paperwork burdens arising from the revisions to the current annual reporting and certification rules in a subsequent 60-day Notice.

New Rules Requiring OMB Review:

47 CFR 64.6040(f) (Accessible formats)—requiring, other among information collection requirements, that the information and documentation IPCS providers furnish to current or potential consumers of IPCS is accessible;

47 CFR 64.130(d) through (f) and (h) through (k) (Protection of consumer funds in inactive accounts)—requiring, among other information collection requirements, that providers follow certain specified procedures when an IPCS account is deemed inactive, including contacting account holders when an incarcerated person is released or transferred; and

47 CFR 64.6140(c) and (d), (e)(2) through (4), and (f)(2) and (4) (Alternate Pricing Plans)—requiring, among other information collection requirements, that providers choosing to offer alternate pricing plans comply with the rules generally applicable to all IPCS, in addition to specific consumer protection and disclosure rules.

Revised Rules Requiring OMB Review:

47 CFR 64. 6110(a) and (c) through (g) (Consumer Disclosure of Incarcerated People's Communications Services Rates)—requiring, among other information collection requirements, that providers post on their public websites clear, accurate, and conspicuous information about their IPCS offerings, including information on rates, charges, and associated practices; and

47 CFR 64.6120 (Waiver process)—requiring, among other information collection requirements, that providers follow certain procedures when filing waiver requests, including a showing that the request will not result in unjust and unreasonable IPCS rates and charges.

Previously-Approved Information Collection Requirements:

47 CFR 64.6040(c) (Communications Access for Incarcerated People with Communications Disabilities)—requiring, among other information collection requirements, that providers, as part of their obligation to provide access to Telecommunications Relay Service (TRS), notify the TRS provider(s) when an incarcerated person who has individually registered to use Video Relay Service (VRS), Internet Protocol Relay Service (IP Relay), or Internet Protocol Captioned Telephone Service (IP CTS) is released from incarceration or transferred to another correctional facility.

47 CFR 64.6060 (Annual Reporting and Certification Requirements)—requiring IPCS providers, among other information collection requirements, to file certain pricing and related data and information annually to promote transparency and heighten IPCS providers' accountability. In 2015, the Wireline Competition Bureau (WCB) created a standardized reporting template (FCC Form No. 2301(a)) and a related certification of accuracy (FCC Form No. 2301(b)), as well as instructions to guide providers through the reporting process. See Inmate Calling Services (ICS) Annual Reporting Form Word Template (Appendix A) (Current), WC Docket No. 12-375 https://www.fcc.gov/general/ics-data-collections (last visited October 10, 2024) (Word Template); ICS Annual Reporting Form Excel Template (Appendix B) (Current), WC Docket No. 12-375, https://www.fcc.gov/general/ics-data-collections (last visited October 10, 2024) (Excel Template); ICS Annual Reporting and Certification Instructions (Current), WC Docket No. 12-375, https://www.fcc.gov/general/ics-data-collections (last visited October 10, 2024) (Instructions) (Certification Instructions); ICS Annual Report Certification Form (Appendix C) (Current), WC Docket No. 12-375, https://www.fcc.gov/general/ics-data-collections (last visited October 10, 2024) (Certification Form).

In the 2023 IPCS Order, FCC 23-19, 88 FR 19001 (March 30, 2023), the Commission, among other things, reaffirmed and updated the Commission's prior delegation of authority to WCB and the Consumer and Governmental Affairs Bureau (CGB) to revise the instructions and reporting template for the Annual Reports that all IPCS providers are required to file each year. Specifically, the Commission delegated authority to WCB and CGB to modify, supplement, and update the instructions and template as appropriate.

On August 3, 2023, in DA 23-656, 88 FR 53850 (August 9, 2023) and 88 FR 54318 (August 10, 2023) (document DA 23-656), WCB and CGB sought comment on proposed revisions to the instructions and templates, including any paperwork burdens, for the annual reports and annual certifications to implement the Martha Wright-Reed Act and reflect the changes that were adopted in the 2022 ICS Order, FCC 22-76, 87 FR 75496 (December 9, 2022). Commenters generally supported the Commission's efforts to track trends in the IPCS marketplace as long as the reporting requirements were not unduly burdensome. However, one commenter argued that it was premature to require reports on video and the expanded TRS obligations, because the Commission had not adopted video IPCS regulations, and the expanded TRS regulations had not yet gone into effect.

In the 2024 IPCS Order, FCC 24-75, the Commission modified the scope and content of the requirements for the annual reports and certifications to reflect the Martha Wright-Reed Act's expansion of Commission authority over other communications services in carceral facilities to include video IPCS and certain other advanced communications services, as well as intrastate IPCS, and the providers that offer these services.

On September 11, 2024, in DA 24-918, 89 FR 80449 (October 3, 2024) (document DA 24-918), WCB and CGB invited supplemental comment to refresh and expand upon the record developed in response to document DA 24-918 to reflect the Commission's expanded jurisdiction and the reforms adopted in the 2024 IPCS Order.

WCB and CGB have not yet issued an order adopting changes to the instructions, templates, and certification form for the annual reports and certifications, as proposed in document DA 23-656 and document DA 24-918. Upon release of an order adopting any such changes, we will address any paperwork burdens arising from those changes in a subsequent 60-day Notice under the PRA.

Federal Communications Commission.
Marlene Dortch,
Secretary, Office of the Secretary.

[FR Doc. 2024-23990 Filed 10-24-24; 8:45 am]

BILLING CODE 6712-01-P